DEPARTMENT OF COMMERCE

International Trade Administration

[A-201-802]

Gray Portland Cement and Clinker: Notice of Extension of Time Limit for Preliminary Results of Antidumping Duty Administrative Review

AGENCY: Import Administration, International Trade Administration, Department of Commerce.

ACTION: Notice of extension of time limit for preliminary results of antidumping duty administrative review.

EFFECTIVE DATE: May 1, 2000.

FOR FURTHER INFORMATION CONTACT: George Callen or Robin Gray, AD/CVD Enforcement, Import Administration, International Trade Administration, U.S. Department of Commerce, 14th Street and Constitution Avenue, N.W., Washington, D.C. 20230; telephone: (202) 482-0180 and (202) 482-4023 respectively.

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 C.F.R. Part 351 (1998).

Extension of Time Limit for Preliminary Results

The Department of Commerce (the Department) received a request to conduct an administrative review of the antidumping duty order on Gray Portland Cement and Clinker from Mexico. On October 1, 1999, the Department initiated this administrative review covering the period August 1, 1998, through August 31, 1999.

Because of the complexity and timing of certain issues in this case, it is not practicable to complete this review within the time limit mandated by section 751(a)(3)(A) of the Act. Following initiation of the administrative review, we received an allegation of sales below cost. We have completed our analysis of the cost allegation and are in the process of conducting a cost investigation. However, since we did not receive the allegation of sales below cost until more than three months after initiation of the administrative review, we are unable to complete our analysis before the current deadline. Therefore, the Department is extending the time limit for the preliminary results to August 30, 2000. The Department intends to issue the final results of review 120 days after the publication of the preliminary results. This extension of the time limit is in accordance with section 751(a)(3)(A) of the Act and 19 CFR 351.213(h)(2).

Dated: April 19, 2000.
Richard Moreland,
Deputy Assistant Secretary for Import Administration.

[FR Doc. 00-10806 Filed 4-28-00; 8:45 am]

BILLING CODE 3510-DS-P